DEPARTMENT OF THE INTERIOR

Fish and Wildlife Service

Notice of Availability of a Final Recovery Plan for the Ouachita Rock Pocketbook

AGENCY: Fish and Wildlife Service, Interior.

ACTION: Notice of document availability.

SUMMARY: We, the U.S. Fish and Wildlife Service (Service), announce the availability of a final recovery plan for the endangered Ouachita rock pocketbook (Arkansia wheeleri). This rare freshwater mussel inhabits portions of certain streams in and near the southern slope of the Ouachita Uplift. A viable population of fewer than 1,800 individuals inhabits the Kiamichi River in Oklahoma and a smaller population (fewer than 100 individuals) inhabits the lower Little River in Oklahoma and Arkansas. Limited evidence exists for recent occurrence of the species in the Ouachita River in Arkansas (where it occurred historically) and in two Red River tributaries in Texas. Populations outside of the Kiamichi River are believed to be too reduced at present to ensure long-term viability. All of the populations have experienced reductions and degradation of their inhabited stream segments and are separated by major impoundments. The final plan outlines objectives, criteria, and tasks for recovering this endangered species.

ADDRESSES: A copy of the final recovery plan may be requested by contacting the Oklahoma Ecological Services Field Office, 222 South Houston Avenue, Suite A, Tulsa, Oklahoma 74127.

FOR FURTHER INFORMATION CONTACT: David Martinez, U.S. Fish and Wildlife Service, at the above address, or by telephone, 918/581-7458 ext. 228.

SUPPLEMENTARY INFORMATION:

Background

Restoring endangered or threatened animals and plants to points where they are again secure, self-sustaining members of their ecosystems is a primary goal of the Service's endangered species program. The Service is working to prepare recovery plans for most of the listed species native to the United States. Recovery plans describe actions considered necessary for conservation of the species, establish criteria for recovery levels to upgrade or delist the species, and estimate time and cost for implementing the identified recovery measures.

The Endangered Species Act of 1973, as amended (Act) (16 U.S.C. 1531 et seq.), requires the development of recovery plans for listed species unless such a plan would not promote the conservation of a particular species. Section 4(f) of the Act, as amended in 1988, requires that public notice and an opportunity for public review and comment be provided during recovery plan development. The Ouachita rock pocketbook was listed as endangered in 1991 (56 FR 54950) and a draft recovery plan was prepared and issued for the species in 1994.

Issuance of the draft plan included a notice of availability and opportunity for public comment (59 FR 35948) and other public notification efforts. Pertinent information received by the Service during the public comment period has been considered in preparation of the final recovery plan, and is summarized in the plan's appendix. This information will also be taken into account in the course of implementing recovery actions. Additional information on population status and distribution has been collected and updated since publication of the draft in 1994; however, no substantive changes have been made to the overall recovery strategy for the species in the final recovery plan.

The Ouachita rock pocketbook (Arkansia wheeleri) represents a monotypic genus now believed to be restricted to approximately 431 kilometers (268 miles) of stream segments in the Red River and Ouachita River drainages in southeastern Oklahoma, southwestern Arkansas, and northwestern Texas. Stream impoundment, potential water withdrawals, channelization, water quality degradation, and potential land use changes are major threats to the species' continued survival.

The final recovery plan includes updated scientific information about the Ouachita rock pocketbook and identifies research and management actions needed to conserve and recover the species' populations and habitat. The strategy for recovery is based on protection of the Kiamichi River population along with re-establishing and protecting viable populations in other portions of the species' historical range. Activities believed necessary to accomplish recovery include increased protection of populations and their habitats, restoration of degraded habitats, filling of critical information gaps regarding the species' biology and propagation, and public outreach efforts. The plan includes downlisting and interim delisting recovery criteria.

Authority: The Authority for this action is section 4(f) of the Endangered Species Act, 16 U.S.C. 1533(f).

Dated: April 6, 2004.
Bryan Arroyo,
Acting Regional Director.

[FR Doc. 04-12394 Filed 6-1-04; 8:45 am]

BILLING CODE 4310-55-P